DEPARTMENT OF ENERGY

Federal Energy Regulatory Commission

Combined Notice of Filings #2

January 22, 2008.

Take notice that the Commission received the following electric corporate filings:

Docket Numbers: EC08-24-001.

Applicants: Sempra Energy Power I, El Dorado Energy, LLC, San Diego Gas & Electric Company.

Description: Sempra Energy Power I et al. submit a corrected page 10 of their application and a revised Exhibit M to the application.

Filed Date: 01/15/2008.

Accession Number: 20080118-0058.

Comment Date: 5 p.m. Eastern Time on Friday, February 1, 2008.

Docket Numbers: EC08-37-000.

Applicants: Mountain View Power Partners, LLC, Centennial Power, LLC, AES Western Wind MV Acquisition, LLC.

Description: Application for order under Section 203 of the Federal Power Act and request for waivers, expedited action and confidential treatment of Mountain View Power Partners, LLC et al.

Filed Date: 01/15/2008.

Accession Number: 20080118-0098.

Comment Date: 5 p.m. Eastern Time on Tuesday, February 5, 2008.

Take notice that the Commission received the following electric rate filings:

Docket Numbers: ER01-989-005.

Applicants: Green Mountain Power Corporation.

Description: Green Mountain Power Corporation submits an updated market power analysis for the twelve months ending November 30, 2006, and revisions to its market-based rate power sales tariff.

Filed Date: 01/14/2008.

Accession Number: 20080117-0052.

Comment Date: 5 p.m. Eastern Time on Monday, February 4, 2008.

Docket Numbers: ER06-738-008; ER06-739-008; ER03-983-007; ER07-501-004; ER02-537-011; ER07-758-003.

Applicants: East Coast Power Linden Holding, LLC; Cogen Technologies Linden Ventures, L.P.; Fox Energy Co. LLC; Birchwood Power Partners, L.P.; Shady Hills Power Company, L.L.C.; Inland Empire Energy Center L.L.C.

Description: East Coast Power Linden Holding, LLC et al. submit notice of change in status resulting from the completion of the transaction authorized by FERC.

Filed Date: 01/16/2008.

Accession Number: 20080122-0224.

Comment Date: 5 p.m. Eastern Time on Wednesday, February 6, 2008.

Docket Numbers: ER07-1136-001.

Applicants: Camp Grove Wind Farm LLC.

Description: Camp Grove Wind Farm LLC submits a notice of change in status for its wind powered electric generating facility located in Marshall and Stark Counties, IL.

Filed Date: 01/16/2008.

Accession Number: 20080122-0225.

Comment Date: 5 p.m. Eastern Time on Wednesday, February 6, 2008.

Docket Numbers: ER08-80-001.

Applicants: The Detroit Edison Company.

Description: The Detroit Edison Company submits its wholesale distribution service agreement with the header and footer information required by Order 614.

Filed Date: 01/16/2008.

Accession Number: 20080117-0035.

Comment Date: 5 p.m. Eastern Time on Wednesday, February 6, 2008.

Docket Numbers: ER08-443-000.

Applicants: Helios Energy LLC.

Description: Helios Energy LLC submits an Application for Market-Based Rate Authority.

Filed Date: 01/14/2008.

Accession Number: 20080118-0056.

Comment Date: 5 p.m. Eastern Time on Monday, February 4, 2008.

Docket Numbers: ER08-444-000.

Applicants: NSTAR Electric Company.

Description: NSTAR Electric Co. submits a notice of succession and revised market-based rate tariff.

Filed Date: 01/14/2008.

Accession Number: 20080118-0055.

Comment Date: 5 p.m. Eastern Time on Monday, February 4, 2008.

Docket Numbers: ER08-449-000.

Applicants: Entergy Services, Inc.

Description: Entergy Operating Companies submits an executed transmission service agreement with South Mississippi Electric Power Association.

Filed Date: 01/16/2008.

Accession Number: 20080118-0046.

Comment Date: 5 p.m. Eastern Time on Wednesday, February 6, 2008.

Docket Numbers: ER08-450-000.

Applicants: Entergy Services, Inc.

Description: Entergy Operating Companies submits an executed transmission service agreement with NRG Power Marketing, Inc. for long-term firm point-to point transmission service.

Filed Date: 01/16/2008.

Accession Number: 20080118-0047.

Comment Date: 5 p.m. Eastern Time on Wednesday, February 6, 2008.

Docket Numbers: ER08-451-000.

Applicants: Plum Point Energy Associates, LLC.

Description: Application for market-based rate authorization under section 205 of the Federal Power Act and request for waivers and blanket approvals of Plum Point Energy Associates LLC.

Filed Date: 01/17/2008.

Accession Number: 20080118-0043.

Comment Date: 5:00 pm Eastern Time on Thursday, February 7, 2008.

Docket Numbers: ER08-452-000.

Applicants: Southern California Edison Company.

Description: Southern California Edison Company submits its Small Generator Interconnection Agreement and the Service Agreement for Wholesale Distribution Services with Ameresco Chiquita Energy LLC.

Filed Date: 01/17/2008.

Accession Number: 20080122-0227.

Comment Date: 5 p.m. Eastern Time on Thursday, February 7, 2008.

Docket Numbers: ER08-453-000.

Applicants: Ocean State Power.

Description: Ocean State Power and Ocean State Power II submits Notices of Termination to cancel Ocean State's unit power agreement with each of its' power purchase customers.

Filed Date: 01/17/2008.

Accession Number: 20080122-0228.

Comment Date: 5 p.m. Eastern Time on Thursday, February 7, 2008.

Docket Numbers: ER94-1188-044; ER98-4540-013; ER99-1623-013; ER98-1279-015; ER06-1046-004.

Applicants: LG&E Energy Marketing Inc.; Louisville Gas & Electric Company; Kentucky Utilities Company; Western Kentucky Energy Corporation; LG&E Energy Marketing Inc.

Description: Change in Status Filing of LG&E Energy Marketing Inc., et al.

Filed Date: 01/17/2008.

Accession Number: 20080117-5026.

Comment Date: 5 p.m. Eastern Time on Thursday, February 7, 2008.

Docket Numbers: ER99-2541-009; ER05-731-003; ER97-3556-017; ER04-582-007; ER99-221-012; ER99-220-014; ER01-1764-006; ER97-3553-005.

Applicants: Carthage Energy, LLC; Central Maine Power Company; Energetix, Inc.; Hartford Steam Company; New York State Electric & Gas Corporation; NYSEG Solutions, Inc.; PEI Power II, LLC; Rochester Gas and Electric Corporation.

Description: Carthage Energy, LLC et al. submits the triennial market power analysis.

Filed Date: 01/14/2008.

Accession Number: 20080117-0045.

Comment Date: 5 p.m. Eastern Time on Monday, February 4, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-1583 Filed 1-29-08; 8:45 am]

BILLING CODE 6717-01-P